DEPARTMENT OF LABOR

Employment and Training Administration

[TA-W-42,172]

Volex, Inc. Power Cord Division Clinton, AR; Notice of Termination of Investigation

Pursuant to Section 221 of the Trade Act of 1974, an investigation was initiated on September 23, 2002, in response to a worker petition filed on the same date by a company official on behalf of workers at Volex, Inc., Power Cord Division, Clinton, Arkansas.

The petitioner has requested that the petition be withdrawn. Consequently, further investigation in this case would serve no purpose, and the investigation has been terminated.

Signed in Washington, DC this 7th day of November, 2002.
Richard Church,
Certifying Officer, Division of Trade Adjustment Assistance.

[FR Doc. 02-29638 Filed 11-20-02; 8:45 am]

BILLING CODE 4510-30-P